DEPARTMENT OF ENERGY

Federal Energy Regulatory Commission

[Project No. 2150-033]

Puget Sound Energy; Notice of Meeting on Baker River Project Relicensing

August 18, 2004.

The Commission hereby gives notice that members of its staff will participate in a conference call with Puget Sound Energy; the Washington Department of Ecology; Skagit and Whatcom Counties, Washington; the Town of Concrete, Washington; and others on September 1, 2004, from 10 a.m. to 1 p.m. (p.t.). The purpose of the conference call is to discuss the status of any water quality certificate, Coastal Zone Management Act consistency determination, and shoreline substantial development permits needed for the project and the processes and schedules for obtaining these documents. The meeting is open to the public and anyone may join the conference call. Please contact Steve Hocking at (202) 502-8753 or steve.hocking@ferc.gov for instructions to join the conference call.

During the course of the meeting, it is possible that the discussion may address matters pending in the above-captioned docket.

Linda Mitry,
Acting Secretary.

[FR Doc. E4-1903 Filed 8-24-04; 8:45 am]

BILLING CODE 6717-01-P